DEPARTMENT OF ENERGY

Federal Energy Regulatory Commission

[Docket No. EC04-96-000, et al.]

Mesquite Investors, L.L.C., et al.; Electric Rate and Corporate Filings

April 16, 2004.

The following filings have been made with the Commission. The filings are listed in ascending order within each docket classification.

1. Mesquite Investors, L.L.C., ANRV Eagle Point, L.P., ANR Venture Eagle Point Company, Okwari UCF LP

[Docket No. EC04-96-000]

Take notice that on April 15, 2004, Mesquite Investors, L.L.C. (Mesquite), ANRV Eagle Point, L.P. (ANRV), ANR Venture Eagle Point Company (ANR Eagle Point) and Okwari UCF LP (Okwari UCF) (jointly, Applicants) filed with the Commission an application pursuant to Section 203 of the Federal Power Act requesting that the Commission: (1) authorize the transfer of Mesquite's, ANRV's and ANR Eagle Point's membership interests in Utility Contract Funding, L.L.C. (UCF) to Okwari UCF; and (2) authorize the subsequent sale and transfer of up to 51 percent of the membership interests thus acquired by Okwari UCF to as yet unidentified purchasers. Applicants requested privileged treatment for certain exhibits pursuant to 18 CFR 3.9 and 388.112. Applicants also requested expedited consideration of this application.

Comment Date: May 6, 2004.

2. Mirant Las Vegas, LLC, Complainant v. Nevada Power Company, Respondent

[Docket No. EL03-229-000]

Take notice that on September 15, 2003, Mirant Las Vegas, LLC (Mirant Las Vegas) filed a complaint against Nevada Power Company (Nevada Power) alleging that the terms and conditions of Nevada Power's Interconnection and Operating Agreement with Mirant Las Vegas violate Commission policy and precedent and are unjust and unreasonable.

Comment Date: May 6, 2004.

3. Williams Generation Company—Hazelton; Williams Flexible Generation, LLC

[Docket No. ER97-4587-005 and ER00-2469-002]

Take notice that on April 12, 2004, Williams Generation Company—Hazelton and Williams Flexible Generation, LLC pursuant to Part 35 of the Commission's regulations, 18 CFR Part 35, submitted proposed tariff sheets to incorporate the Market Behavior Rules adopted by the Commission's order issued November 17, 2003, Investigation of Terms and Conditions of Public Utility Market-Based Rate Authorizations, 105 FERC ¶ 61,218 (2003).

Comment Date: May 30, 2004.

4. Pacific Gas and Electric Company and ETrans LLC

[Docket No. ER02-455-000]

Take notice that on April 13, 2004, Pacific Gas and Electric Company (PG&E) and ETrans LLC, (collectively, Applicants) filed a Notice of Withdrawal stating that they want to withdraw the application previously filed in this docket and to terminate the present proceeding.

Comment Date: May 4, 2004.

5. Electric Generation, LLC

[Docket No. ER02-456-000]

Take notice that on April 13, 2004, Electric Generation LLC (Applicant) filed a Notice of Withdrawal stating that they want to withdraw the application previously filed in this docket and to terminate the present proceeding.

Comment Date: May 4, 2004.

6. Kentucky Utilities Company

[Docket No. ER04-203-002]

Take notice that on April 12, 2004, Kentucky Utilities Company submitted a compliance filing pursuant to the March 11, 2004 Letter Order from the Director of the Division of Tariffs and Market Development-Central.

Comment Date: May 3, 2004.

7. Southeast Chicago Energy Project, LLC

[Docket No. ER04-333-002]

Take notice that on April 12, 2004, Southeast Chicago Energy Project, LLC, tendered a compliance filing pursuant to the Commission's Letter Order issued March 11, 2004 in Docket Nos. ER04-333-000 and ER04-333-000.

Comment Date: May 3, 2004.

8. Central Vermont Public Service Corporation

[Docket Nos. ER04-510-002 and EL04-88-001]

Take notice that on April 12, 2004, Central Vermont Public Service Corporation (Central Vermont) submitted a compliance filing pursuant to the Commission's order issued March 12, 2004 Central Vermont Public Service Corp., 106 FERC ¶ 61,247 (2004). Central Vermont requests an effective date of March 12, 2004.

Central Vermont states that copies of the filing were served upon North Hartland, LLC, the Vermont Department of Public Service, and the Vermont Public Service Board.

Comment Date: May 3, 2004.

9. Commonwealth Edison Company

[Docket No. ER04-595-001]

Take notice that on April 15, 2004, Commonwealth Edison Company (ComEd) filed its response to the Commission's letter issued April 8, 2004 regarding ComEd's February 27, 2004 filing to amend an Interconnection Agreement between ComEd and Cordova Energy Company LLC and change its designation from a rate schedule to a service agreement under ComEd's Open Access Transmission Tariff.

Comment Date: April 20, 2004.

10. Pacific Gas and Electric Company

[Docket No. ER04-725-000]

Take notice that on April 12, 2004, Pacific Gas and Electric Company (PG&E) tendered for filing proposed changes in rates for Sacramento Municipal Utility District (SMUD), to be effective July 1, 2003, developed using a rate adjustment mechanism previously agreed by PG&E and SMUD for First Revised PG&E Rate Schedule FERC Nos. 88 and 91 and Second Revised PG&E Rate Schedule FERC No. 136.

PG&E state that copies of this filing have been served upon SMUD, the California Independent System Operator Corporation, and the California Public Utilities Commission.

Comment Date: May 3, 2004.

11. Sierra Southwest Cooperative Services, Inc.

[Docket No. ER04-728-000]

Take notice that on April 12, 2004, Sierra Southwest Cooperative Services, Inc. tendered for filing Notices of Cancellation, pursuant to 18 CFR 35.15, to reflect cancellation of its Rate Schedules FERC Nos. 1 and 2.

Comment Date: May 3, 2004.

12. Pinpoint Power, LLC

[Docket No. ER04-729-000]

Take notice that on April 12, 2004, Pinpoint Power, LLC (Pinpoint) filed an Agreement for Supplemental Installed Capacity Southwest Connecticut (Agreement) with ISO New England Inc. (ISO-NE) in compliance with Section 205 of the Federal Power Act and the Commission's order issued February 27, 2004 in Docket No. ER04-335-000, New England Power Pool, 106 FERC ¶ 61,190 (2004). Pinpoint seeks expedited action on its filing and a waiver of the prior notice filing requirements to allow the Agreement to become effective on June 1, 2004.

Pinpoint states that copies of its filing were sent to ISO-NE.

Comment Date: May 3, 2004.

13. PJM Interconnection, L.L.C.

[Docket No. ER04-742-000]

Take notice that on April 15, 2004, PJM Interconnection, L.L.C. (PJM) submitted the initial annual allocation of financial transmission rights (FTRs) and auction revenue rights (ARRs) for the zone of Commonwealth Edison Company (ComEd), covering the first annual planning period after ComEd's scheduled integration into PJM. PJM requests an effective date of June 1, 2004 for the initial annual FTR and ARR allocation in the ComEd zone, corresponding to the start of the annual planning period in PJM.

PJM states that copies of the filing were served on all PJM members and the utility regulatory commissions in the PJM region.

Comment Date: April 26, 2004.

Standard Paragraph

Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the “FERRIS” link. Enter the docket number excluding the last three digits in the docket number filed to access the document. For assistance, call (202) 502-8222 or TTY, (202) 502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. E4-919 Filed 4-23-04; 8:45 am]

BILLING CODE 6717-01-P